NUCLEAR REGULATORY COMMISSION

10 CFR Parts 170 and 171

RIN 3150-AG95

Revision of the Fee Schedules; Fee Recovery for FY 2002

Correction

In proposed rule document 02-7114 beginning on page 14818 in the issue of Wednesday, March 27, 2002 make the following corrections:

1. On page 14820, Table II. is corrected to read as set forth below.

Table II.—FY 2002 Budget Authority To Be Included in Hourly Rates
[Dollars in millions]
| Reactor programs | Materials program
Direct Program Salaries & Benefits | $117.0M | $32.2M
Overhead Salaries & Benefits, Program Travel and Other Support | 59.2M | 15.6M
Allocated Agency Management and Support | 106.9M | 29.0M
Subtotal | $283.1M | $76.8M
Less offsetting receipts | −0.1M | −0.00M
Total Budget Included in Hourly Rate | $283.0M | $76.8M
Program Direct FTEs | 1024.0 | 285.1
Rate per Direct FTE | $276,345 | $269,451
Professional Hourly Rate (Rate per direct FTE divided by 1,776 hours) | $156 | $152

2. On page 14822, in Table IV., under the heading “ Proposed FY 2002 annual fee”, in the seventh line, “7,700” should read “77,700”.

3. On page 14823, in Table V., under the heading “Category of costs ”, in the first line, “(NWF and General Fund amounts)” should read “(minus NWF and General Fund amounts)”.

[FR Doc. C2-7114 Filed 4-9-02; 8:45 am]

BILLING CODE 1505-01-D